DEPARTMENT OF ENERGY

Federal Energy Regulatory Commission

Combined Notice of Filings #1

Take notice that the Commission received the following exempt wholesale generator filings:

Docket Numbers: EG24-226-000.

Applicants: Ash Creek Solar, LLC.

Description: Ash Creek Solar LLC submits Notice of Self-Certification of Exempt Wholesale Generator Status.

Filed Date: 7/10/24.

Accession Number: 20240710-5068.

Comment Date: 5 p.m. ET 7/31/24.

Docket Numbers: EG24-227-000.

Applicants: Prairie Mist Solar Project, LLC.

Description: Prairie Mist Solar Project, LLC submits Notice of Self-Certification of Exempt Wholesale Generator Status.

Filed Date: 7/10/24.

Accession Number: 20240710-5070.

Comment Date: 5 p.m. ET 7/31/24.

Docket Numbers: EG24-228-000.

Applicants: Buckeye Plains Solar Project, LLC.

Description: Buckeye Plains Solar Project, LLC submits Notice of Self-Certification of Exempt Wholesale Generator Status.

Filed Date: 7/10/24.

Accession Number: 20240710-5071.

Comment Date: 5 p.m. ET 7/31/24.

Docket Numbers: EG24-229-000.

Applicants: Pickaway County Solar Project, LLC.

Description: Pickaway County Solar Project, LLC submits Notice of Self-Certification of Exempt Wholesale Generator Status.

Filed Date: 7/10/24.

Accession Number: 20240710-5072.

Comment Date: 5 p.m. ET 7/31/24.

Take notice that the Commission received the following electric rate filings:

Docket Numbers: ER10-2475-028; ER10-2474-027; ER10-3246-021; ER13-1266-039; ER22-1385-000; ER15-2211-037; ER10-2984-057; ER22-1385-010.

Applicants: Merrill Lynch Commodities, Inc., MidAmerican Energy Services, LLC, BHER Market Operations, LLC., CalEnergy, LLC, PacifiCorp, Sierra Pacific Power Company, Nevada Power Company.

Description: Errata to 06/29/2022, Triennial Market Power Analysis for Northwest Region of Nevada Power Company, et al.

Filed Date: 12/5/22.

Accession Number: 20221205-5175.

Comment Date: 5 p.m. ET 7/31/24.

Docket Numbers: ER24-2360-001.

Applicants: Tri-State Generation and Transmission Association, Inc.

Description: Tariff Amendment: Amendment to Certificate of Concurrence Filing to Revise Effective Date to be effective 5/29/2024.

Filed Date: 7/10/24.

Accession Number: 20240710-5147.

Comment Date: 5 p.m. ET 7/31/24.

Docket Numbers: ER24-2482-000.

Applicants: American Electric Power Service Corporation, PJM Interconnection, L.L.C.

Description: 205(d) Rate Filing: American Electric Power Service Corporation submits tariff filing per 35.13(a)(2)(iii: AEP submits one Facilities Agreement re: ILDSA, SA No. 1336 to be effective 6/13/2024.

Filed Date: 7/10/24.

Accession Number: 20240710-5038.

Comment Date: 5 p.m. ET 7/31/24.

Docket Numbers: ER24-2483-000.

Applicants: Arizona Public Service Company.

Description: 205(d) Rate Filing: Rate Schedule No. 217, Exhibit B.BSE to be effective 9/9/2024.

Filed Date: 7/10/24.

Accession Number: 20240710-5061.

Comment Date: 5 p.m. ET 7/31/24.

Docket Numbers: ER24-2484-000.

Applicants: PJM Interconnection, L.L.C.

Description: 205(d) Rate Filing: Amendment to ISA No. 4493, AB1-096 to be effective 9/9/2024.

Filed Date: 7/10/24.

Accession Number: 20240710-5065.

Comment Date: 5 p.m. ET 7/31/24.

Docket Numbers: ER24-2485-000.

Applicants: Southwest Power Pool, Inc.

Description: 205(d) Rate Filing: 4287 Caprock Wind GIA to be effective 7/3/2024.

Filed Date: 7/10/24.

Accession Number: 20240710-5091.

Comment Date: 5 p.m. ET 7/31/24.

Docket Numbers: ER24-2486-000.

Applicants: Cottontail Solar 1, LLC.

Description: Tariff Amendment: Notice of Cancellation to be effective 7/11/2024.

Filed Date: 7/10/24.

Accession Number: 20240710-5098.

Comment Date: 5 p.m. ET 7/31/24.

Docket Numbers: ER24-2487-000.

Applicants: Cottontail Solar 2, LLC.

Description: Tariff Amendment: Notice of Cancellation to be effective 7/11/2024.

Filed Date: 7/10/24.

Accession Number: 20240710-5101.

Comment Date: 5 p.m. ET 7/31/24.

Docket Numbers: ER24-2488-000.

Applicants: Cottontail Solar 4, LLC.

Description: Tariff Amendment: Notice of Cancellation to be effective 7/11/2024.

Filed Date: 7/10/24.

Accession Number: 20240710-5102.

Comment Date: 5 p.m. ET 7/31/24.

Docket Numbers: ER24-2489-000.

Applicants: Cottontail Solar 5, LLC.

Description: Tariff Amendment: Notice of Cancellation to be effective 7/11/2024.

Filed Date: 7/10/24.

Accession Number: 20240710-5103.

Comment Date: 5 p.m. ET 7/31/24.

Docket Numbers: ER24-2490-000.

Applicants: Cottontail Solar 6, LLC.

Description: Tariff Amendment: Notice of Cancellation to be effective 7/11/2024.

Filed Date: 7/10/24.

Accession Number: 20240710-5105.

Comment Date: 5 p.m. ET 7/31/24.

Docket Numbers: ER24-2491-000.

Applicants: Cottontail Solar 8, LLC.

Description: Tariff Amendment: Notice of Cancellation to be effective 7/11/2024.

Filed Date: 7/10/24.

Accession Number: 20240710-5106.

Comment Date: 5 p.m. ET 7/31/24.

Docket Numbers: ER24-2492-000.

Applicants: PJM Interconnection, L.L.C.

Description: 205(d) Rate Filing: Amendment to ISA, Service Agreement No. 6838; AF2-356 to be effective 9/9/2024.

Filed Date: 7/10/24.

Accession Number: 20240710-5140.

Comment Date: 5 p.m. ET 7/31/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 10, 2024.
Debbie-Anne A. Reese,
Acting Secretary.

[FR Doc. 2024-15613 Filed 7-15-24; 8:45 am]

BILLING CODE 6717-01-P